DEPARTMENT OF TRANSPORTATION

Federal Aviation Administration

14 CFR Part 39

[Docket No. FAA-2020-0644; Product Identifier 2019-CE-057-AD; Amendment 39-21160; AD 2020-14-06]

RIN 2120-AA64

Airworthiness Directives; Diamond Aircraft Industries Airplanes

AGENCY: Federal Aviation Administration (FAA), DOT.

ACTION: Final rule; request for comments.

SUMMARY: The FAA is adopting a new airworthiness directive (AD) for Diamond Aircraft Industries Models DA 40, DA 40 F, and DA 40 NG airplanes. This AD results from mandatory continuing airworthiness information (MCAI) issued by the aviation authority of another country to identify and correct an unsafe condition on an aviation product. The MCAI describes the unsafe condition as deterioration of the fuel tank connection hoses that could result in restriction of fuel flow leading to fuel starvation and reduced control of the airplane. The FAA is issuing this AD to require actions to address the unsafe condition on these products.

DATES: This AD is effective August 4, 2020.

The Director of the Federal Register approved the incorporation by reference of certain publications listed in the AD as of August 4, 2020.

The FAA must receive comments on this AD by August 31, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Customer Support, Diamond Aircraft Industries, Inc., 1560 Crumlin Sideroad, London, Ontario, Canada, N5V 1S2; Phone: (519) 457-4041, Fax: (519) 457-4045; Email: support-canada@diamondaircraft.com. You may view this referenced service information at the FAA, Airworthiness Products Section, Operational Safety Branch, 901 Locust, Kansas City, Missouri 64106. For information on the availability of this material at the FAA, call (816) 329-4148. It is also available on the internet at https://www.regulations.gov by searching for and locating Docket No. FAA-2020-0644.

Examining the AD Docket

You may examine the AD docket on the internet at https://www.regulations.gov by searching for and locating Docket No. FAA-2020-0644; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Joseph Catanzaro, Aerospace Engineer, FAA, New York ACO Branch, 1600 Stewart Avenue, Suite 410, Westbury, New York 11590; telephone: (516) 287-7366; fax: (516) 794-5531; email: joseph.catanzaro@faa.gov.

SUPPLEMENTARY INFORMATION:

Discussion

Transport Canada, which is the aviation authority for Canada, has issued AD No. CF-2019-39, dated October 31, 2019 (referred to after this as “the MCAI”), to correct an unsafe condition for Diamond Aircraft Industries Models DA 40, DA 40 D, DA 40 F, and DA 40 NG airplanes. The MCAI states:

Diamond Aircraft Industries (DAI) has received reports of fuel tank connection hose deterioration on the DA 40 aeroplanes. In a number of cases, rubber parts from the hoses were found in the fuel tank and gascolator. Investigation determined that the affected connection hoses originated from two isolated batches. Some of the affected hoses were installed on aeroplanes during production, while others were sold as replacement parts.

Deterioration of fuel tank connection hoses, if not corrected, could result in contamination of the fuel system and restriction of fuel flow, leading to fuel starvation and reduced control of the aeroplane.

To address this unsafe condition, DAI issued Mandatory Service Bulletins (MSBs) to provide instructions for identifying and replacing the affected parts. The MSBs also provide instructions to inspect the fuel tank chambers and remove rubber parts that have detached from the hoses. This AD mandates replacement of the affected parts, associated inspections and corrective actions detailed in the MSBs.

You may examine the MCAI on the internet at https://www.regulations.gov by searching for and locating Docket No. FAA-2020-0644.

Related Service Information Under 1 CFR Part 51

The FAA reviewed the following Diamond Aircraft Industries Mandatory Service Bulletins: MSB 40-087, Revision 3, dated November 5, 2019, for the Model DA 40 airplanes; MSB F4-037, Revision 3, dated November 5, 2019, for the Model DA 40 F airplanes; and MSB 40NG-064, Revision 2, dated August 29, 2019, for the Model DA 40 NG airplanes. The FAA also reviewed the following Diamond Aircraft Industries Work Instructions: WI-MSB 40-087, Revision 0, dated July 1, 2019, for the Model DA 40 airplanes; WI-MSB F4-037, Revision 0, dated July 1, 2019, for the Model DA 40 F airplanes; and WI-MSB 40NG-064, Revision 0, dated July 1, 2019, for the Model DA 40 NG airplanes. In combination for the applicable model airplane, the service bulletins and work instructions contain procedures for identifying and replacing affected parts, inspecting the fuel tank chambers, and removing rubber material that has detached from the hoses. This service information is reasonably available because the interested parties have access to it through their normal course of business or by the means identified in the ADDRESSES section.

FAA's Determination and Requirements of the AD

This product has been approved by the aviation authority of another country, and is approved for operation in the United States. Pursuant to our bilateral agreement with this State of Design Authority, it has notified the FAA of the unsafe condition described in the MCAI and service information referenced above. The FAA is issuing this AD because the FAA evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because deterioration of fuel tank connection hoses could result in contamination of the fuel system and restriction of fuel flow, resulting in fuel starvation and reduced control of the airplane. Additionally, the compliance time for the required actions is shorter than the time necessary for the public to comment and for publication of the final rule. Therefore, the FAA finds good cause that notice and opportunity for prior public comment are impracticable. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0644; Product Identifier 2019-CE-057-AD” at the beginning of your comments. The FAA specifically invites comments on the overall regulatory, economic, environmental, and energy aspects of this AD. The FAA will consider all comments received by the closing date and may amend this AD because of those comments.

The FAA will post all comments it receives, without change, to https://www.regulations.gov, including any personal information you provide. The FAA will also post a report summarizing each substantive verbal contact it receives about this AD.

Costs of Compliance

The FAA estimates that this AD will affect 737 products of U.S. registry. The FAA also estimates that it would take about 16 work-hours per product to comply with the requirements of this AD. The average labor rate is $85 per work-hour. Required parts would cost about $48 per product.

Based on these figures, the FAA estimates the cost of the AD on U.S. operators to be $1,408 per airplane, or $1,037,696 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Regulatory Findings

The FAA determined that this proposed AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-14-06 Diamond Aircraft Industries Inc.: Amendment 39-21160; Docket No. FAA-2020-0644; Product Identifier 2019-CE-057-AD.

(a) Effective Date

This AD becomes effective August 4, 2020.

(b) Affected ADs

None.

(c) Applicability

This AD applies to Diamond Aircraft Industries Inc. Models DA 40, DA 40 F, and DA 40 NG airplanes (including Model DA 40 NG airplanes that have been converted from the Model DA 40 D), all serial numbers, certificated in any category.

(d) Subject

Air Transport Association of America (ATA) Code 28: Fuel System.

(e) Reason

This AD was prompted by deterioration of the fuel tank connection hoses, which if not addressed, could result in contamination of the fuel system and restriction of fuel flow. The FAA is issuing this AD to detect and prevent fuel starvation and reduced control of the airplane.

(f) Actions and Compliance

(1) For purposes of this AD, “affected part” means a fuel tank connection hose that meets the criteria in paragraph (f)(1)(i), (ii), or (iii) of this AD.

(i) Part number (P/N) D4D-2817-10-70 installed during production on Model DA 40 NG airplanes with a serial number listed in Section I.2. of Diamond Aircraft Industries Mandatory Service Bulletin No. MSB 40NG-064, Revision 2, dated August 29, 2019; or

(ii) P/N D4D-2817-10-70 or BENOLPRESS (no part number) purchased between July 13, 2017, and February 26, 2019, as listed in Section I.11 of Diamond Aircraft Industries Mandatory Service Bulletin No. MSB 40-087, Revision 3, dated November 5, 2019; Diamond Aircraft Industries Mandatory Service Bulletin No. MSB 40NG-064, Revision 2, dated August 29, 2019; or Diamond Aircraft Industries Mandatory Service Bulletin No. MSB F4-037, Revision 3, dated November 5, 2019; or

(iii) P/N D4D-2817-10-70 installed as a replacement part on or after July 13, 2017, if it is unknown whether the part meets the criteria in paragraph (f)(1)(i) or (ii) of this AD.

(2) Unless already done, within 100 hours time-in-service (TIS) after August 4, 2020 or within 2 months after August 4, 2020, whichever occurs first, replace each affected part, inspect the main fuel tank chambers, and remove any detached rubber material in accordance with Sections III.1 and III.2 of the Instructions in Diamond Aircraft Industries Work Instruction WI-MSB 40-087, Revision 0, dated July 1, 2019; Diamond Aircraft Industries Work Instruction WI-MSB F4-037, Revision 0, dated July 1, 2019; or Diamond Aircraft Industries Work Instruction WI-MSB 40NG-064, Revision 0, dated July 1, 2019; as applicable to your model airplane, except you are not required to report information to the manufacturer.

(3) As of August 4, 2020, do not install an affected part on any airplane.

(g) Alternative Methods of Compliance (AMOCs)

(1) The Manager, New York ACO Branch, FAA, has the authority to approve AMOCs for this AD, if requested using the procedures found in 14 CFR 39.19. Send your request to your principal inspector (PI) or local Flight Standards District Office, as appropriate. If sending information directly to the manager of the certification office, send it to Joseph Catanzaro, Aerospace Engineer, FAA, New York ACO Branch, 1600 Stewart Avenue, Suite 410, Westbury, New York 11590; telephone: (516) 287-7366; fax: (516) 794-5531; email: joseph.catanzaro@faa.gov.

(2) Before using any approved AMOC, notify your appropriate PI, or lacking a PI, the manager of the local Flight Standards District Office.

(h) Related Information

Refer to Transport Canada AD No. CF-2019-39, dated October 31, 2019. You may examine the Transport Canada AD on the internet at https://www.regulations.gov by searching for and locating Docket No. FAA-2020-0644.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Diamond Aircraft Industries Mandatory Service Bulletin No. MSB 40-087, Revision 3, dated November 5, 2019.

(ii) Diamond Aircraft Industries Mandatory Service Bulletin No. MSB 40NG-064, Revision 2, dated August 29, 2019.

(iii) Diamond Aircraft Industries Mandatory Service Bulletin No. MSB F4-037, Revision 3, dated November 5, 2019.

(iv) Diamond Aircraft Industries Work Instruction WI-MSB 40-087, Revision 0, dated July 1, 2019.

(v) Diamond Aircraft Industries Work Instruction WI-MSB 40NG-064, Revision 0, dated July 1, 2019.

(vi) Diamond Aircraft Industries Work Instruction WI-MSB F4-037, Revision 0, dated July 1, 2019.

(3) For Diamond Aircraft Industries, Inc. service information identified in this AD, contact Customer Support, Diamond Aircraft Industries, Inc., 1560 Crumlin Sideroad, London, Ontario, Canada, N5V 1S2; Phone: (519) 457-4041, Fax: (519) 457-4045; Email: support-canada@diamondaircraft.com.

(4) You may view this service information at the FAA, Airworthiness Products Section, Operational Safety Branch, 901 Locust, Kansas City, Missouri 64106. For information on the availability of this material at the FAA, call (816) 329-4148. It is also available on the internet at https://www.regulations.gov by searching for and locating Docket No. FAA-2020-0644.

(5) You may view this service information that is incorporated by reference at the National Archives and Records Administration (NARA). For information on the availability of this material at NARA, email fedreg.legal@nara.gov, or go to: https://www.archives.gov/federal-register/cfr/ibr-locations.html.

Issued on July 1, 2020.
Gaetano A. Sciortino,
Deputy Director for Strategic Initiatives, Compliance & Airworthiness Division, Aircraft Certification Service.

[FR Doc. 2020-15133 Filed 7-14-20; 8:45 am]

BILLING CODE 4910-13-P